Title 3—

The President

Proclamation 9474 of August 19, 2016

National Employer Support of the Guard and Reserve Week, 2016

By the President of the United States of America

A Proclamation

For more than two centuries, brave patriots have given of themselves to secure our fundamental rights to life, liberty, and the pursuit of happiness—and in times of both war and peace, members of the National Guard and Reserve have stood ready to don our uniform, answer our Nation's call, and protect our way of life. This week, we recognize the important role played by the families, employers, and communities of these men and women in ensuring they can step forward and serve our country when they are needed most.

There are more than one million members of our National Guard and Reserve. Throughout the year, they dutifully train and prepare so that when they are called at a moment's notice to serve their Nation, they are able to serve with the honor and dedication that have long been hallmarks of our Armed Forces. Balancing their lives as civilians with their responsibilities in uniform, they defend and protect our people at home and abroad. In the face of natural disasters and humanitarian crises, they are quick to respond and offer assistance; during periods of conflict and strife, they help keep us safe and protect our national interests.

These citizen-Soldiers, Sailors, Airmen, Marines, and Coast Guardsmen deserve the full backing of their civilian employers and the promise of a secure and stable life here at home. From the businesses that seek to recruit and retain these patriots in the workplace to the supporters who provide leadership and resources, this unconditional care for our Guardsmen and Reservists and their families is part of what makes our military the greatest fighting force the world has ever known.

Americans who volunteer to serve their country should always be able to partake in its opportunities. First Lady Michelle Obama and Dr. Jill Biden's Joining Forces initiative has worked to make it easier for military spouses and veterans to find employment and ensure they are supported in the workforce. And my Administration has worked across all sectors to encourage communities to hire veterans and match members of the Guard and Reserve to the jobs they deserve. We must never waver in our commitment to fight for those who have fought for us, and we must continue striving to connect each of them with opportunities to keep their families strong and our country competitive.

During National Employer Support of the Guard and Reserve Week, let us honor the members of our Guard and Reserve for their steadfast dedication to us all—both in and out of uniform. And let us acknowledge the families, employers, and businesses whose encouragement and flexibility have enabled our military to thrive, and whose support has been vital to the success, stability, and security of our Nation.

NOW, THEREFORE, I, BARACK OBAMA, President of the United States of America, by virtue of the authority vested in me by the Constitution and the laws of the United States, do hereby proclaim August 21 through August 27, 2016, as National Employer Support of the Guard and Reserve Week. I call upon all Americans to join me in expressing our heartfelt thanks to the members of the National Guard and Reserve and their civilian employers. I also call on State and local officials, private organizations, and all military commanders to observe this week with appropriate ceremonies and activities.

IN WITNESS WHEREOF, I have hereunto set my hand this nineteenth day of August, in the year of our Lord two thousand sixteen, and of the Independence of the United States of America the two hundred and forty-first.

[FR Doc. 2016-20394

Filed 8-23-16; 8:45 am]

Billing code 3295-F6-P